CHEMICAL SAFETY AND HAZARD INVESTIGATION BOARD

[Docket No. CSB-10-01]

National Academy of Sciences Study

AGENCY: Chemical Safety and Hazard Investigation Board.

ACTION: Notice and request for comments.

SUMMARY: The Fiscal Year 2010 appropriations legislation for the Chemical Safety and Hazard Investigation Board (CSB) provides funding for a study by the National Academy of Sciences (NAS) to examine the use and storage of methyl isocyanate, including the feasibility of implementing alternative chemicals or processes and an examination of the cost of alternatives at the Bayer CropScience facility in Institute, West Virginia. With this notice, the CSB is outlining the scope of the study to be undertaken by the NAS and requesting public comments regarding the study.

DATES: Written comments must be received by the CSB on or before May 10, 2010.

ADDRESSES: You may submit written comments, identified by docket number CSB-10-01, by either of the following methods:

• E-mail (preferred): nascomments@csb.gov. Include CSB-10-01 in the subject line of the message.

• Mail: Chemical Safety and Hazard Investigation Board, Office of Congressional, Public, and Board Affairs, Attn: D. Horowitz, 2175 K Street, NW., Suite 650, Washington, DC 20037.

Instructions: All comment submissions must include the agency name and docket number. All comments received, including any personal information provided, will be made available to the public without modifications or deletions. For detailed instructions on submitting comments electronically, including acceptable file formats, see the “Electronic Submission of Comments” heading in the SUPPLEMENTARY INFORMATION section of this document. Comments received by the CSB will be posted online in the Open Government section of the CSB Web site, http://www.csb.gov/open.aspx.

FOR FURTHER INFORMATION CONTACT: Dr. Daniel Horowitz, Director of Congressional, Public, and Board Affairs, at (202) 261-7613.

SUPPLEMENTARY INFORMATION:

Background

Bayer CropScience Incident

On August 28, 2008, a fatal explosion and fire occurred at the Bayer CropScience (BCS) plant located in Institute, West Virginia. The explosion occurred during the restarting of the plant's methomyl production unit, when highly toxic and reactive methomyl waste was overloaded into a residue treater vessel. A violent runaway reaction ruptured the 5,000-pound vessel and sent it through the production unit, breaking pipes and equipment. The explosion and resulting chemical release and fire fatally injured two employees. Six volunteer firefighters and two others showed likely symptoms of chemical exposure. The blast wave damaged businesses thousands of feet away.

Congressional Testimony

On April 21, 2009, John S. Bresland, Chairman of the CSB, testified before the House Energy and Commerce Committee regarding the CSB's ongoing investigation at the BCS site. Chairman Bresland testified that the CSB investigation had revealed significant lapses in process safety management. Plant operators had received inadequate training on a new computer control system, which was being used for the first time. Written operating procedures were outdated and could not be followed during startups, due to longstanding equipment problems. The heater for the residue treater was known to be undersized. This regularly forced operators to defeat critical safety interlocks during startups—increasing the chance of dangerously overloading the treater with methomyl.

Chairman Bresland also stated that the blast could have propelled the residue treater in any direction. About 80 feet from the original location of the treater, there was a 37,000-pound capacity tank of methyl isocyanate (MIC), which held 13,800 pounds of the highly toxic and volatile liquid on the night of the accident. Chairman Bresland announced that the CSB was further investigating whether this tank was located in a safe position and whether alternative arrangements to using or storing MIC had been considered at Bayer, or should be considered in the future.

Interim Public Meeting

On April 23, 2009, the CSB investigation team presented its initial findings to the Board at a public meeting in Institute, West Virginia. In its presentation the CSB team stated that it planned to conduct further studies on how MIC was used and stored at the facility, in light of the preliminary findings.

Bayer Announcement

In August 2009, Bayer officials announced a plan which they said would reduce both the maximum and the average inventory of MIC at the Institute site by approximately 80%. This would be accomplished in part by eliminating the on-site production of two MIC-derived carbamate pesticides, and in part by restricting the inventory of MIC needed for producing two remaining pesticides. Bayer officials also stated the company would end the bulk storage of MIC in aboveground tanks, including the 37,000-pound capacity MIC tank that was near the August 2008 explosion site. That tank, as noted in Congressional testimony in April, was exposed to potential projectiles and other hazards from the explosion.

Congressional Appropriations

On October 30, 2009, the President signed the Fiscal Year 2010 appropriations legislation for the CSB. See Public Law 111-88, 123 Stat. 2949. This legislation contained the following language regarding the CSB's ongoing investigation of the Bayer CropScience incident, “Provided further, That of the funds appropriated under this heading, $600,000 shall be for a study by the National Academy of Sciences to examine the use and storage of methyl isocyanate including the feasibility of implementing alternative chemicals or processes and an examination of the cost of alternatives at the Bayer CropScience facility in Institute, West Virginia.” Public Law 111-88, 123 Stat. 2950.

Proposed Study

In order to accomplish the study called for by the CSB's appropriations legislation, the agency has drafted the following task statement for the NAS:

Proposed Task Statement for National Academy of Sciences Study on “Inherently Safer Chemical Processes: The Use of Methyl Isocyanate at Bayer CropScience”

Public Law 111-88 (the Department of the Interior, Environment, and Related Agencies Appropriations Act, 2010) directs the Chemical Safety and Hazard Investigation Board (CSB) to conduct “a study by the National Academy of Sciences to examine the use and storage of methyl isocyanate including the feasibility of implementing alternative chemicals or processes and an examination of the cost of alternatives at the Bayer CropScience facility in Institute, West Virginia.” ¹

¹ Congress appropriated $600,000 for conducting the study.

The study is needed because of concerns about the potential for an airborne release of the chemical, which is highly toxic by inhalation and could adversely impact the health and safety of workers and the public in West Virginia's Kanawha Valley.² Depending upon the progress of the study, the availability of funding, and other factors, the CSB may contract for a second, related study to examine inherently safer technology (IST) alternatives to other high-volume toxic chemicals used in industry.

² On December 3, 1984, the uncontrolled release of MIC from an underground storage tank at a Union Carbide pesticide manufacturing facility in Bhopal, India, killed thousands of residents and disabled or injured thousands of others.

For a number of years, the Bayer facility in Institute ³ has stored approximately 200,000 pounds of methyl isocyanate (MIC), which has been used as an intermediate to produce carbamate pesticides, including carbofuran, carbaryl, aldicarb, methomyl, and thiodicarb (Larvin). It is the only remaining site in the U.S. which manufactures and stores large quantities of MIC. In August 2009, one year after a serious explosion and fire near an aboveground MIC storage tank, Bayer announced a plan to reduce the maximum inventory of MIC at the Institute site by 80% and to eliminate aboveground storage of the chemical. This plan, which is currently being implemented, would leave approximately 40,000 pounds of MIC stored underground at the site on an ongoing basis. To achieve the inventory reduction, Bayer plans to use its existing carbamate manufacturing technology but to discontinue the production of two MIC-derived carbamate pesticides, methomyl ⁴ and carbofuran.⁵

³ The facility was constructed in the 1940's and was developed as a carbamate pesticide manufacturing complex by Union Carbide, which owned the facility from 1947-1986. Bayer CropScience acquired the facility in 2002.

⁴ The methomyl production unit was heavily damaged in the August 2008 explosion. Bayer opted not to rebuild the unit but to begin purchasing methomyl from other sources and convert it into thiodicarb (Larvin) at the Institute site. The conversion of methomyl to thiodicarb does not use MIC.

⁵ On December 31, 2009, the U.S. Environmental Protection Agency revoked all tolerances for the pesticide, having determined that “dietary, worker, and ecological risks are unacceptable for all uses of carbofuran.”

Tasks

The National Academy of Sciences (NAS) study will focus on further risk-reduction opportunities, above and beyond the envisioned 80% reduction in MIC inventory. To perform the study, the NAS shall convene an expert panel with diverse representation, including individuals with industry, academic, community, environmental, and labor experience and backgrounds. The expert panel shall produce a detailed written report and recommendations on the following subjects:

1. Review and evaluate the state of the art in inherently safer process assessments and implementation:

• Provide a working definition of Inherently Safer Technology (IST), as the term applies to the chemical industry and other process industries.

• Review and evaluate current practices for inherently safer process assessments, including the goals and applicability of these tools. Specifically, do existing methods adequately account for all the potential life-cycle benefits and risks from adopting inherently safer technologies?

• Review and evaluate current economic valuation methods for estimating the cost of alternative chemicals and processes. Specifically, do these methods accurately estimate capital investment costs, operating costs, and payback periods?

• Review and evaluate current standards and metrics for measuring the effectiveness of inherently safer technology applications in the chemical and process industries.

• Review and evaluate the impact of existing State and local regulatory programs that seek to promote inherently safer processes, such as the Industrial Safety Ordinance in Contra Costa County, California, and the Toxic Catastrophe Prevention Act in New Jersey.

• Provide guidance on best practices for inherently safer process assessments, metrics, and IST cost evaluation methods.

2. Examine the use and storage of MIC at the Bayer CropScience facility in Institute, West Virginia:

• Review the current industry practice for the use and storage of MIC in manufacturing processes, including a summary of changes adopted by industrial users of MIC following the 1984 Bhopal accident.

• Review current and emerging technologies for producing carbamate pesticides, including carbaryl, aldicarb, and related compounds. The review should include:

—Synthetic methods and patent literature.

—Manufacturing approaches used worldwide for these materials.

—Manufacturing costs for different synthetic routes.

—Environmental and energy costs and tradeoffs for alternative approaches.

—Any specific fixed-facility accident or transportation risks associated with alternative approaches.

—Regulatory outlook for the pesticides, including their expected lifetime on the market.

• Identify the best possible approaches for eliminating or reducing the use of MIC in the Bayer carbamate pesticide manufacturing processes, through, for example, substitution of less hazardous intermediates, intensifying existing manufacturing processes, or consuming MIC simultaneously with its production. Examine these approaches using the best practices for inherently safer process assessment identified under Task 1.

• Estimate projected costs of alternative approaches identified above.

• Compare the inherently safer process assessments conducted by Bayer and previous owners of the Institute site with benchmarks established under Task 1.

Deliverables

For each task, the NAS shall provide a monthly progress report to the CSB from inception to completion. The NAS should promptly notify the CSB of any problems encountered or other matters that require CSB attention.

The principal deliverable item is a detailed written report of the expert panel addressing each point in Tasks 1 and 2, above. The report should be produced within 12 months of the initiation of the project. The panel may conduct public hearings in West Virginia, or elsewhere, as appropriate.

Questions for Public Comment

1. Does the proposed Task Statement include the appropriate topics for consideration by the NAS? Are there any additional general or specific topics the NAS panel will need to consider in order to reach a satisfactory answer on the feasibility and costs of reducing the use and storage of MIC?

2. If funds are available, should the CSB initiate a second, related study to consider the feasibility, costs, and benefits of inherently safer alternatives to other chemicals? For example, should a study consider alternatives to the use of hydrogen fluoride in refinery alkylation processes and/or to the use of chlorine in water treatment? What other chemicals or processes should be considered if a second study is undertaken?

3. What kinds of backgrounds and expertise should be represented on the NAS panel?

4. Is the proposed timetable appropriate?

Electronic Submission of Comments

Electronic submission of comments is preferred. Comments should be submitted by e-mail to nascomments@csb.gov. Comments may be submitted in the body of the e-mail message or as an attached PDF, MS Word, or plain text ASCII file. Files must be virus-free and unencrypted. Please ensure that the comments themselves, whether in the body of the e-mail or attached as a file, include the docket number (CSB-10-01), the agency name, and your full name and address.

Authority: 42 U.S.C. 7412(r)(6)(F), (N); Pub. L. 111-88, 123 Stat. 2950.

Dated: April 19, 2010.
Christopher W. Warner,
General Counsel.

[FR Doc. 2010-9422 Filed 4-22-10; 8:45 am]

BILLING CODE 6350-01-P